DEPARTMENT OF JUSTICE

Notice of Lodging of Stipulated Settlement Order Pursuant To the Clean Air Act

Notice is hereby given that on November 9, 2000, a proposed stipulated settlement order in United States v. The Detroit Edison Company, Civil Action No. 99-CV-70171 (consolidated with The Detroit Edison Company v. Michigan Department of Environmental Quality, et al., Civil Action No. 98-CV-74129), was lodged with the United States District Court for the Eastern District of Michigan.

In this action, the United States sought injunctive relief and civil penalties under Section 113(b) of the Clean Air Act, 42 U.S.C. 7413(b), for violations of the Clean Air Act's Prevention of Significant Deterioration (“PSD”) regulations, incorporated into the federally approved Michigan State Implementation Plan (“SIP”), the Nonattainment New Source Review (“NSR”) regulations, and the New Source Performance Standards (“NSPS”) at The Detroit Edison Company's Conners Creek Power Plant in Detroit, Michigan. Specifically, the United States' Compliant alleged that The Detroit Edison Company (i) failed to obtain a PSD permit prior to engaging in extensive renovation activities that Detroit Edison undertook in April through June of 1998 at its Conner Creek Power Plant in Detroit, Michigan, in violation of 42 U.S.C. 7475, 40 CFR 52.21, and Mich. Rule 201.; (ii) failed to obtain a Nonattainment NSR permit for those same activities, in violation of 42 U.S.C. 7503, 40 CFR 51.165, and Mich. Rules 201 and 221.; and (iii) failed to provide U.S. EPA with notifications required under Subpart A of the NSPS prior to the renovation activities, in violation of 40 CFR 60.7(a)(1), 60.7(a)(2), and 60.7(a)(3).

Under the proposed stipulated settlement order, Detroit Edison will pay a civil penalty of $135,000 to the United States, $135,000 to the State of Michigan, $135,000 to Wayne County, and attorneys fees and costs of $45,000 to various citizen groups that intervened in the consolidated actions, to resolve the claims brought under the Clean Air Act and the Michigan SIP. During the pendency of this case, Detroit Edison converted its coal-fired boilers at the Conners Creek facility to natural gas-fired boilers; the conversion satisfied the injunctive relief claims brought in the case.

The Department of Justice will receive, for a period of thirty (30) days from the date of this publication, comments relating to the proposed stipulated settlement order. Comments should be addressed to the Assistant Attorney General for the Environment and Natural Resources Division, Department of Justice, Washington, D.C. 20530, and should refer to United States v. The Detroit Edison Company, DOJ Ref. #90-5-2-1-06726.

The proposed stipulated settlement order may be examined at the office of the United States Attorney for the Eastern District of Michigan, 211 W. Fort St., Suite 2300, Detroit, Michigan 48226-3211, and at U.S. EPA Region 5, 77 West Jackson Boulevard, Chicago, IL 60604. A copy of the proposed consent decree may also be obtained by mail from the Department of Justice Consent Decree Library, P.O. Box 7611, Washington, DC 20044. In requesting a copy please refer to the referenced case and enclose a check in the amount of $5.00 (25 cents per page reproduction costs), payable to the Consent Decree Library.

Bruce S. Gelber,
Chief, Environmental Enforcement Section, Environment and Natural Resources Division.

[FR Doc. 00-29979 Filed 11-22-00; 8:45 am]

BILLING CODE 4410-15-M